DEPARTMENT OF ENERGY

Southeastern Power Administration

Proposed Rate Adjustment, Public Forum, and Opportunities for Public Review and Comment for Georgia-Alabama-South Carolina System of Projects

AGENCY: Southeastern Power Administration, DOE.

ACTION: Notice of proposed rate.

SUMMARY: Southeastern Power Administration (Southeastern) proposes to revise existing schedules of rates and charges applicable to the sale of power from the Georgia-Alabama-South Carolina System of Projects effective for a 5-year period, October 1, 2022, through September 30, 2027. Additionally, opportunities will be available for interested persons to review the present rates and the proposed rates and supporting studies, to participate in a public forum and to submit written comments. Southeastern will evaluate all comments received in this process.

DATES: Written comments are due on or before June 23, 2022. A public information and comment forum will be held in Atlanta, Georgia at 2:00 p.m. EDT on April 26, 2022. Persons desiring to attend the forum should notify Southeastern by April 19, 2022, so a list of forum participants can be prepared. Persons desiring to speak at the forum should specify this in their notification to Southeastern; others may speak if time permits. Notifications should be submitted by Email to Comments@sepa.doe.gov. If Southeastern has not been notified by close of business on April 19, 2022, that at least one person intends to be present at the forum, the forum may be canceled with no further notice.

ADDRESSES: Written comments should be submitted to: Administrator, Southeastern Power Administration, Department of Energy, 1166 Athens Tech Road, Elberton, Georgia 30635-6711; Email: Comments@sepa.doe.gov. The public information and comment forum for the Georgia-Alabama-South Carolina System of Projects will take place at the Atlanta Airport Marriott, 4711 Best Road, Atlanta, Georgia 30337.

FOR FURTHER INFORMATION CONTACT: Alexa Webb, Public Utilities Specialist, Southeastern Power Administration, Department of Energy, 1166 Athens Tech Road, Elberton, Georgia 30635, (706) 213-3800; Email: Alexa.Webb@sepa.doe.gov.

SUPPLEMENTARY INFORMATION: The Federal Energy Regulatory Commission (FERC) confirmed and approved on a final basis Wholesale Power Rate Schedules SOCO-1-F, SOCO-2-F, SOCO-3-F, SOCO-4-F, ALA-1-O, Duke-1-F, Duke-2-F, Duke-3-F, Duke-4-F, Santee-1-F, Santee-2-F, Santee-3-F, Santee-4-F, SCE&G-1-F, SCE&G-2-F, SCE&G-3-F, SCE&G-4-F, Pump-1-A, and Replacement-1 applicable to Georgia-Alabama-South Carolina System of Projects' power for a period ending September 30, 2022. (FERC Docket No. EF17-5-000; 162 FERC ¶ 62,059 (Jan. 25, 2018)).

Discussion: The Georgia-Alabama-South Carolina System (System) consists of ten projects in or on the border of the states of Georgia, Alabama, and South Carolina. The power generated at these projects is purchased by and benefits 192 preference customers in Alabama, Florida, Georgia, Mississippi, South Carolina, and North Carolina. The System provides 2,184,257 kilowatts of capacity and about 3,383,000 MWh of average annual energy from stream-flow based on modeling for the period of record.

Existing rate schedules are predicated upon a February 2017 repayment study and other supporting data. A repayment study prepared in January of 2022 shows a two percent (2%) increase in the revenue requirement is necessary due to an increase in forecast transmission service purchase costs. The revenue requirement is $203,650,000 per year. Southeastern is proposing to revise the existing rate schedules to generate this revenue. The proposed rate adjustment is a reduction of about one percent (1%) in the rates for capacity and an increase in the energy rate of about four percent (4%).

Southeastern is proposing the following rate schedules to be effective for the period from October 1, 2022 through September 30, 2027.

Rate Schedule SOCO-1-G

Available to public bodies and cooperatives in Georgia, Alabama, Mississippi, and Florida to whom power may be wheeled and scheduled pursuant to contracts between the Government and Southern Company Services, Incorporated.

Rate Schedule SOCO-2-G

Available to public bodies and cooperatives in Georgia, Alabama, Mississippi, and Florida to whom power may be wheeled pursuant to contracts between the Government and Southern Company Services, Incorporated. The customer is responsible for providing a scheduling arrangement with the Government.

Rate Schedule SOCO-3-G

Available to public bodies and cooperatives in Georgia, Alabama, Mississippi, and Florida to whom power may be scheduled pursuant to contracts between the Government and Southern Company Services, Incorporated. The customer is responsible for providing a transmission arrangement.

Rate Schedule SOCO-4-G

Available to public bodies and cooperatives in Georgia, Alabama, Mississippi, and Florida served through the transmission facilities of Southern Company Services, Inc. The customer is responsible for providing a scheduling arrangement with the Government and for providing a transmission arrangement.

Rate Schedule Duke-1-G

Available to public bodies and cooperatives in North Carolina and South Carolina to whom power may be wheeled and scheduled pursuant to contracts between the Government and Duke Power Company.

Rate Schedule Duke-2-G

Available to public bodies and cooperatives in North Carolina and South Carolina to whom power may be wheeled pursuant to contracts between the Government and Duke Power Company. The customer is responsible for providing a scheduling arrangement with the Government.

Rate Schedule Duke-3-G

Available to public bodies and cooperatives in North Carolina and South Carolina to whom power may be scheduled pursuant to contracts between the Government and Duke Power Company. The customer is responsible for providing a transmission arrangement.

Rate Schedule Duke-4-G

Available to public bodies and cooperatives in North Carolina and South Carolina served through the transmission facilities of Duke Power Company. The customer is responsible for providing a scheduling arrangement with the Government and for providing a transmission arrangement.

Rate Schedule Santee-1-G

Available to public bodies and cooperatives in South Carolina to whom power may be wheeled and scheduled pursuant to contracts between the Government and South Carolina Public Service Authority.

Rate Schedule Santee-2-G

Available to public bodies and cooperatives in South Carolina to whom power may be wheeled pursuant to contracts between the Government and South Carolina Public Service Authority. The customer is responsible for providing a scheduling arrangement with the Government.

Rate Schedule Santee-3-G

Available to public bodies and cooperatives in South Carolina to whom power may be scheduled pursuant to contracts between the Government and South Carolina Public Service Authority. The customer is responsible for providing a transmission arrangement.

Rate Schedule Santee-4-G

Available to public bodies and cooperatives in South Carolina served through the transmission facilities of South Carolina Public Service Authority. The customer is responsible for providing a scheduling arrangement with the Government and for providing a transmission arrangement.

Rate Schedule SCE&G-1-G

Available to public bodies and cooperatives in South Carolina to whom power may be wheeled and scheduled pursuant to contracts between the Government and Dominion Energy South Carolina, Inc.

Rate Schedule SCE&G-2-G

Available to public bodies and cooperatives in South Carolina to whom power may be wheeled pursuant to contracts between the Government and Dominion Energy South Carolina, Inc. The customer is responsible for providing a scheduling arrangement with the Government.

Rate Schedule SCE&G-3-G

Available to public bodies and cooperatives in South Carolina to whom power may be scheduled pursuant to contracts between the Government and Dominion Energy South Carolina, Inc. The customer is responsible for providing a transmission arrangement.

Rate Schedule SCE&G-4-G

Available to public bodies and cooperatives in South Carolina served through the transmission facilities of Dominion Energy South Carolina, Inc. The customer is responsible for providing a scheduling arrangement with the Government and for providing a transmission arrangement.

Rate Schedule Pump-1-A

Available to all customers of the Georgia-Alabama-South Carolina System and applicable to energy from pumping operations at the Carters and Richard B. Russell projects.

Rate Schedule Replacement-1

Available to all customers in the Georgia-Alabama-South Carolina System and applicable to replacement energy.

The proposed rates for capacity, energy, and generation services are as follows:

Capacity | $4.04 | per kilowatt (kW) per month.
Energy | 12.80 | mills per kilowatt-hour.
Generation Services | $0.12 | per kW per month.

Under this scenario, 75 percent of generation revenues are recovered from capacity sales and 25 percent are recovered from energy sales. These rates are expected to produce an average revenue of $203,595,000 in FY 2023 and all future years.

The rates for transmission, scheduling, reactive supply, and regulation and frequency response apply to all four scenarios and are illustrated in Table 1.

Southeastern Power Administration Proposed Rates for Transmission Scheduling, Reactive, and Regulation Charges
Rate schedule | Transmission charge: $/kW/month | Scheduling charge: $/kW/month | Reactive charge: $/kW/month | Regulation charge: $/kW/month
SOCO-1-G | 4.08 | 0.0806 | 0.11 | 0.0483
SOCO-2-G | 4.08 |  | 0.11 |
SOCO-3-G |  | 0.0806 |  | 0.0483
SOCO-4-G |  |  |  |
Duke-1-G | 1.51 |  |  |
Duke-2-G | 1.51 |  |  |
Duke-3-G |  |  |  |
Duke-4-G |  |  |  |
Santee-1-G | 1.88 |  |  |
Santee-2-G | 1.88 |  |  |
Santee-3-G |  |  |  |
Santee-4-G |  |  |  |
SCE&G-1-G | 5.07 |  |  |
SCE&G-2-G | 5.07 |  |  |
SCE&G-3-G |  |  |  |
SCE&G-4-G |  |  |  |
Pump-1-A |  |  |  |
Replacement-1 |  |  |  |

The referenced repayment studies are available for examination at 1166 Athens Tech Road, Elberton, Georgia 30635-6711. Proposed Rate Schedules SOCO-1-G, SOCO-2-G, SOCO-3-G, SOCO-4-G, Duke-1-G, Duke-2-G, Duke-3-G, Duke-4-G, Santee-1-G, Santee-2-G, Santee-3-G, Santee-4-G, SCE&G-1-G, SCE&G-2-G, SCE&G-3-G, SCE&G-4-G, Pump-1-A, and Replacement-1 are also available.

Legal Authority: By Delegation Order No. 00-037.00B, effective November 19, 2016, the Secretary of Energy delegated to Southeastern's Administrator the authority to develop power and transmission rates, to the Deputy Secretary of Energy the authority to confirm, approve, and place such rates into effect on an interim basis, and to FERC the authority to confirm, approve, and place into effect on a final basis, or to disapprove, rates developed by the Administrator under the delegation. By Delegation Order No. S1-DEL-S4-2021-2, effective December 8, 2021, the Secretary of Energy also delegated the authority to confirm, approve, and place such rates into effect on an interim basis to the Under Secretary for Science (and Energy). By Redelegation Order No. S4-DEL-OE1-2021-2, also effective December 8, 2021, the Under Secretary for Science (and Energy) redelegated the authority to confirm, approve, and place such rates into effect on an interim basis to the Assistant Secretary for Electricity. By Redelegation Order No. 00-002.10-03, effective July 8, 2020, the Assistant Secretary for Electricity further redelegated the authority to confirm, approve, and place such rates into effect on an interim basis to the Administrator, Southeastern Power Administration. This redelegation order, despite predating the December 2021 delegations, remains valid. This rate is proposed by the Administrator, Southeastern Power Administration, pursuant to the authority delegated in Delegation Order No. 00-037.00B.

Environmental Impact: Southeastern has reviewed the possible environmental impacts of the rate adjustment under consideration and has concluded that, because the adjusted rates would not significantly affect the quality of the human environment within the meaning of the National Environmental Policy Act of 1969, as amended, the proposed action is not a major Federal action for which preparation of an Environmental Impact Statement is required.

Determination Under Executive Order 12866: Southeastern has an exemption from centralized regulatory review under Executive Order 12866; accordingly, no clearance of this notice by the Office of Management and Budget is required.

Signing Authority

This document of the Department of Energy was signed on March 22, 2022, by Virgil G. Hobbs III, Administrator for Southeastern Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 22, 2022.
Treena V. Garrett,
Federal Register Liaison Officer, U.S. Department of Energy.

[FR Doc. 2022-06305 Filed 3-24-22; 8:45 am]

BILLING CODE 6450-01-P